DEPARTMENT OF AGRICULTURE

Forest Service

Okanogan-Wenatchee National Forest, Washington, Pack and Saddle Stock Outfitter-Guide Special Use Permits Issuance Environmental Impact Statement

AGENCY: Forest Service, USDA.

ACTION: Revised Notice of intent to prepare an environmental impact statement.

SUMMARY: On June 22, 2005, the USDA, Forest Service, Okanogan-Wenatchee National Forest, published a notice of intent to prepare an environmental impact statement for Pack and Saddle Stock Outfitter-Guide Special Use Permit Issuance in the Federal Register (FR, Vol. 70, No. 119, 36112). The purpose of this revised notice of intent is to update the Purpose and Need, change the number of service days proposed, to describe a proposed forest plan amendment, and to revise the planned release date.

FOR FURTHER INFORMATION CONTACT: Jennifer Zbyszewski, Project Team Leader, Methow Valley Ranger District, Okanogan-Wenatchee National Forest, Forest Service, (509) 996-4021 or Laurie Dowie, Special Use Permit Administrator, Methow Valley Ranger District, Okanogan-Wenatchee National Forest, (509) 996-4071.

SUPPLEMENTARY INFORMATION:

Purpose and Need for Action

A part of the original purpose and need in the notice of intent was based on a Need Assessment completed in 1996. The Forest Service has prepared a new Need Assessment titled “Determination of Need and Extent Necessary for Commercial Service (Outfitters and Guides) in the Pasayten Wilderness and the Lake Chelan-Sawtooth Wilderness”, July 2010 (Need Assessment) and confirmed that there is a need for pack and saddle stock outfitter-guides in these wilderness areas. It evaluated the service in terms of wilderness dependency and education of clients about wilderness practices, in addition to the public need for the service based on skill, equipment, knowledge, safety, and current interest and demand.

The Wilderness Act prohibits commercial services in wilderness except to the extent necessary to provide for wilderness appropriate activities. The Need Assessment established that the minimum number of service days needed to meet this need for pack and saddle stock commercial services in the Pasayten and Lake Chelan-Sawtooth wilderness areas is 2,720.

Currently both the Okanogan and Wenatchee Land and Resource Management Plans (Forest Plans, 1989, 1990) have inconsistent management direction regarding party sizes and maximum vegetation loss sizes. The Okanogan Forest Plan currently does not allow vegetation loss to exceed 400 square feet (MA15B-22B). The Wenatchee Forest Plan allows vegetation loss of up to 1,000 square feet (Table IV-15, page IV-77). Both Forest Plans allow party sizes of up to 12 people and 18 head of stock in these wildernesses. It is physically impracticable to fit camps with 12 people and 18 head of stock inside areas of 400 to 1,000 square feet. Using computations included in the analysis file, 5,250 square feet was identified as an area in which 12 people and 18 head of stock could reasonably camp. Due to historical use, including large party-sizes and livestock grazing, some existing camps exceed 5,250 square feet. Continued use and short growing seasons have perpetuated some of these camps even though livestock grazing is no longer occurring and party size is now limited. There is a need to make camp sizes consistent with party sizes in the existing Forest Plans.

These needs are added to the need published in the original Federal Register notice of intent.

Proposed Action

The USDA Forest Service, Okanogan-Wenatchee National Forest, is changing the total number of service days (including both wilderness and non-wilderness) that would be divided between the pack and saddle stock outfitter-guides to 4,620 from what was published in the original Federal Register notice of intent. These days are specifically divided in separate sub-units, and include 2,720 service days in wilderness.

The Forest is also proposing a non-significant amendment to the Forest Plans that would make standards for outfitter-guide campsites more compatible with party size limitations and provide for non-degradation of wilderness conditions as required in the Okanogan Forest Plan (MA15B-21D, page 4-91). For the Wenatchee Forest Plan the amendment would improve the compatibility of outfitter-guide campsites with some ‘limits of acceptable change’ indicators (Table IV-15, page IV-77). These amendments would only apply to pack and saddle stock outfitter-guides in the Pasayten and Lake Chelan-Sawtooth Wilderness Areas. The following standard and guideline would be added to the Okanogan and Wenatchee Forest Plans:

• Pack and saddle stock outfitter-guides shall not be allowed to increase the existing amount of barren core (bare, mineral soil) in established campsites. In campsites where the existing amount of barren core exceeds 5,250 square feet, outfitter-guides shall not use more than 5,250 square feet of the barren core. All pack and saddle outfitter-guides shall use the same delineated, 5250 square foot area for each camp and shall not use any area outside of the delineated 5,250 square foot area.

This amendment would require outfitter-guides to jointly identify the portion of the impacted area for consistent use. This would be included in the Camp Management Plan for each campsite. Areas outside of the designated area would not be used, allowing recovery to proceed.

DATES: Due to delays because of other work priorites and the need for completion of the Need Assessment, the draft environmental impact statement will now be available in August 2010, and the final will be available in March 2011.

Dated: July 14, 2010.
Stuart M. Woolley,
Acting Forest Supervisor.

[FR Doc. 2010-17755 Filed 7-20-10; 8:45 am]

BILLING CODE 3410-11-P